DEPARTMENT OF THE INTERIOR

Bureau of Land Management

[NM-070-1430-EQ; NMNM111685]

Notice of Realty Action; Commercial Lease on public land, San Juan County, NM

AGENCY: Bureau of Land Management, Interior.

ACTION: Notice of realty action.

SUMMARY: The Bureau of Land Management (BLM) has determined that a 100.53 acre tract of public land in San Juan County, New Mexico, is available for use as a poultry-production farm. Pursuant to the Federal Land Policy and Management Act of 1976, a non-competitive lease application for a use of this kind will be accepted for processing and given careful consideration by the BLM.

DATES: Interested persons may submit comments in writing to the BLM at the address given below on or before September 12, 2005.

ADDRESSES: Bureau of Land Management, Field Office Manager, Farmington Field Office, 1235 La Plata Highway, Suite A, Farmington, New Mexico 87401.

FOR FURTHER INFORMATION CONTACT: Carol Balkus, at the address given above, or by telephone at: (505) 599-6353.

SUPPLEMENTARY INFORMATION: Nageezi Enterprises, a domestic corporation, has informally proposed in writing that the following described tract of public land, located near Bloomfield, New Mexico, be used, occupied and developed as a commercial, poultry-production farm:

New Mexico Principle Meridian

T. 27 N., R. 11 W., Section 9, lots 1 and 4, and the NE¼ NE¼

Containing 100.53 acres, more or less.

After review, the BLM has determined the proposed use of the above described tract of land is in conformance with the applicable BLM land use plan, i.e., the Farmington Resource Management Plan, and that the above described land is available for that use. Therefore, pursuant to section 302 (b) of the Federal Land Policy and Management Act of 1976 (43 U.S.C. 1732 (b)) and the implementing regulations at 43 CFR part 2920, the BLM will accept for processing an application to be filed by Nageezi Enterprises, or its duly qualified designee, for a non-competitive lease of the above described tract of land, to be used and occupied as stated above.

A non-competitive lease will be employed in this case because the lease is proposed within a checkerboard land pattern next to the Navajo Nation farm with intermingled land ownership which is primarily managed for Navajo interests. There is no known competitive interest. Water and feed for the poultry farm are provided by the Navajo farm at a significant discount to the corporation since the corporation is a joint venture by Navajo chapter members from Nageezi and Huerfano chapters. Land use authorizations may be offered on a negotiated, non-competitive basis, when in the judgment of the authorized officer equities, such as prior use of the lands, exist, no competitive interest exists or where competitive bidding would represent unfair competitive and economic disadvantage to the originator of the unique land use concept. The BLM will estimate the costs of processing the lease application. Before the BLM begins to process the application, the lease applicant must pay the full amount of the estimated costs to the United States. If a lease is not granted, the lease applicant must pay to the United States, in addition to the estimated costs, the reasonable costs incurred by the BLM in processing the lease in excess of the estimated costs.

The current, appraised rental value relative to the above described land, is $94.74 per acre. Rent, payable annually or otherwise in advance, will be determined by the BLM, if and when a lease application is granted and periodically thereafter. If a lease is granted, the lessee shall reimburse the United States for all reasonable administrative and other costs incurred by the United States in processing the lease application and for monitoring construction, operation, maintenance and rehabilitation of the land and facilities authorized. The reimbursement of costs shall be in accordance with the provisions of 43 CFR 2920.6.

The lease application must include a reference to this notice and comply in all other respects with the regulations pertaining to land use authorization applications at 43 CFR 2920.5-2 and 2920.5-(5)(b).

The applicable regulations, and further details concerning the foregoing are available for review in the BLM, Farmington Field Office at the address stated above.

If authorized, a lease would be subject to valid existing rights, including but not limited to the following:

1. A right-of-way for a natural gas pipeline granted to El Paso Natural Gas by right-of-way New Mexico 57925, under the Act of February 25, 1920 (30 U.S.C. 185).

2. A right-of-way for a natural gas pipeline granted to El Paso Natural Gas by right-of-way New Mexico 07301, under the Act of February 25, 1920 (30 U.S.C. 185).

3. A right-of-way for a natural gas pipeline granted to El Paso Natural Gas by right-of-way New Mexico 08538, under the Act of February 25, 1920 (30 U.S.C. 185).

4. A right-of-way for a natural gas pipeline granted to El Paso Natural Gas by right-of-way New Mexico 08545, under the Act of February 25, 1920 (30 U.S.C. 185).

5. A right-of-way for a natural gas pipeline granted to El Paso Natural Gas by right-of-way New Mexico 021702, under the Act of February 25, 1920 (30 U.S.C. 185).

On or before September 12, 2005, interested parties may submit comments to the BLM at the address stated above with respect to:

(1) The decision of the BLM regarding the availability of the lands described herein and

(2) The decision of the BLM to entertain an application from Nageezi Enterprises for a non-competitive lease.

Adverse comments will be evaluated by the BLM Field Manager, Farmington, NM, who may sustain, vacate or modify this realty action. In the absence of any adverse comment, this realty action will become a final determination of the BLM as to each one of the two decisions stated above.

(Authority: 43 CFR 2920.4)

Dated: June 20, 2005.
Joel E. Farrell,
Assistant Field Manager.

[FR Doc. 05-14943 Filed 7-27-05; 8:45 am]

BILLING CODE 4310-VB-P